DEPARTMENT OF THE INTERIOR

Fish and Wildlife Service

DEPARTMENT OF COMMERCE

National Oceanic and Atmospheric Administration

[I.D. 042604A]

Notice of Availability of a Draft Recovery Plan for the Gulf of Maine Distinct Population Segment (DPS) of Atlantic Salmon

AGENCY: National Marine Fisheries Service, National Oceanic and Atmospheric Administration, Commerce; and U.S. Fish and Wildlife Service, Interior.

ACTION: Notice of Availability of Draft Recovery Plan for the Gulf of Maine Distinct Population Segment (DPS) of Atlantic Salmon (Salmo salar).

SUMMARY: The National Marine Fisheries Service (NMFS) and the U.S. Fish and Wildlife Service (FWS)(collectively, the Services) announce the availability for public review of the Draft Recovery Plan for the Gulf of Maine DPS of Atlantic Salmon. The Services are soliciting review and comment on the draft plan from the public and all interested parties.

DATES: The comment period for this proposal closes on September 16, 2004. The Services will consider and address all substantive comments that are received during the comment period. In addition to making this draft plan available for public review, it is simultaneously being submitted for agency and peer review. After consideration of all substantive comments received during the review period, the Recovery Plan will be submitted for final approval. Comments on the Draft Recovery Plan must be received before the closing date.

The Services have scheduled two public meetings/hearings in the State of Maine to discuss the Draft Recovery Plan with interested parties and solicit comments. Both meetings/hearings will start at 6:00 p.m. on the dates indicated:

(1) July 14, 2004. University of Maine at Machias, The Science Building Lecture Hall.

(2) July 15, 2004. Augusta Civic Center, Kennebec/Penobscot Room.

ADDRESSES: Please send written comments and materials to the Atlantic Salmon Recovery Plan Coordinator at the address provided above. In addition, the Services are accepting electronic comments (i.e., email) on the Draft Recovery Plan at the following address: SalmonRecovery@noaa.gov.

Persons wishing to review the Draft Recovery Plan can obtain a copy from the Atlantic Salmon Recovery Plan Coordinator, National Marine Fisheries Service, One Blackburn Drive, Gloucester, MA 01930. Electronic copies of the Draft Recovery Plan are also available on-line on the NMFS (www.nmfs.noaa.gov/pr/) and FWS (www.fws.gov) websites.

FOR FURTHER INFORMATION CONTACT: Mark Minton (NMFS), Atlantic Salmon Recovery Plan Coordinator (978-281-9328 extension 6534); Pat Scida (NMFS), Endangered Species Coordinator (978-281-9208); or Martin Miller (FWS), Chief, Endangered Species Division (413-253-8615).

SUPPLEMENTARY INFORMATION:

Background

Recovery Plans describe actions considered necessary for the conservation and recovery of species listed under the Endangered Species Act of 1973 (Act), as amended (16 U.S.C. 1531 et seq.), establish criteria for the downlisting or delisting of such species and estimate the time and costs required to implement recovery actions. The Act requires the development of Recovery Plans for listed species unless such a plan would not promote the recovery of a particular species. Section 4(f) of the Act, as amended in 1988, requires that public notice and an opportunity for public review and comment be provided during Recovery Plan development. The Services will consider all substantive comments and information presented during the public comment period in the course of finalizing this Recovery Plan.

The Gulf of Maine DPS of Atlantic salmon was listed as endangered under the Act on December 17, 2000 (65 FR 69459). The DPS includes all persistent, naturally reproducing populations of Atlantic salmon from the Kennebec River downstream of the former Edwards Dam site, northward to the mouth of the St. Croix River. At the time of listing, there were at least eight rivers in the geographic range of the DPS known to still support wild Atlantic salmon populations (Dennys, East Machias, Machias, Pleasant, Narraguagus, Ducktrap and Sheepscot Rivers and Cove Brook). In addition to these eight rivers, there are at least 14 small coastal rivers within the historic range of the DPS from which wild salmon populations have been extirpated.

The Gulf of Maine DPS has declined to critically low levels. Adult returns have continued to decline since the listing. In 2002, total adult returns to the eight rivers still supporting wild Atlantic salmon populations within the DPS were estimated to range from 23 to 46 individuals. No adults were documented in three of the eight rivers. Juvenile abundance estimates and survival have also continued to decline. Declining smolt production has been documented in recent years, despite fry stocking.

The Recovery Plan includes prioritized actions to recover the Gulf of Maine DPS. The major areas of action are designed to stop and reverse the downward population trends of the eight wild Atlantic salmon populations and minimize the potential for human activities to result in the degradation or destruction of Atlantic salmon habitat essential to its survival and recovery. The Draft Recovery Plan identifies the following actions as necessary for the full recovery of the DPS: (1) Protect and restore freshwater and estuarine habitat; (2) prevent take in freshwater, estuarine and marine fisheries; (3) reduce predation and competition on all life stages of Atlantic salmon; (4) reduce risks from commercial aquaculture operations; (5) supplement wild populations with hatchery-reared DPS salmon; (6) conserve the genetic integrity of the DPS; (7) assess stock status of key life stages; (8) promote salmon recovery through increased public and government awareness; and (9) assess effectiveness of recovery actions and revise as appropriate.

The recovery planning process included a “threats assessment”, which evaluated the geographic extent and the severity of threats to various life-stages of Atlantic salmon in the DPS. This evaluation resulted in the following threats being identified as high priority for action to reverse the decline of Atlantic salmon populations in the Gulf of Maine DPS: (1) Aquaculture practices which pose ecological and genetic risks; (2) acidified water and associated aluminum toxicity which decrease juvenile survival; (3) poaching of adults in DPS rivers; (4) incidental capture of adults and parr by recreational fishermen; (5) predation; and (6) excessive or unregulated water withdrawal.

Public Comments Solicited

The Services solicit written comments on the draft Recovery Plan. All substantive comments received by the date specified above will be considered prior to final approval of the Recovery Plan.

As is noted in the Recovery Plan, the National Research Council (NRC) was asked to describe what is known about the genetic makeup of Atlantic salmon in Maine and issued a report on this subject in January 2002. The NRC was also asked to assess the causes of decline and to suggest strategies for the rehabilitation of Atlantic salmon in Maine and issued a report addressing this issue on January 20, 2004. The Services' preliminary review of the NRC's January 20, 2004 report indicates that the report's findings are generally consistent with this draft Recovery Plan. However, several issues within this report warrant additional consideration as we develop a final recovery plan. The most significant of these issues include: (1) risks associated with the research and monitoring; (2) mortality as smolts transition from freshwater to the ocean; (3) potential impacts of hatchery operations; and (4) the need for a structured and inclusive risk and decision analysis process.

The Services are seeking public comment on these and other findings and recommendations in the NRC report as they relate to this Recovery Plan. It is important to note that the scope of the NRC report is broader than this Recovery Plan; the NRC report considered all Atlantic salmon populations in Maine, whereas the Recovery Plan focuses only on the Gulf of Maine DPS.

Authority

The authority for this action is section 4(f) of the Endangered Species Act (16 U.S.C. 1531 et seq.).

Dated: May 14, 2004.
Laurie K. Allen,
Director, Office of Protected Resources, National Marine Fisheries Service.
Dated: May 12, 2004.
Marvin E. Moriarty,
Regional Director, Region 5, U.S. Fish and Wildlife Service.

[FR Doc. 04-13731 Filed 6-17-04; 8:45 am]

BILLING CODE 3510-22-S